NUCLEAR REGULATORY COMMISSION

[NRC-2009-0226]

Office of New Reactors; Interim Staff Guidance on Finalizing Licensing Basis Information

AGENCY: Nuclear Regulatory Commission (NRC).

ACTION: Solicitation of public comment.

SUMMARY: The NRC staff is soliciting public comment on its Proposed Interim Staff Guidance (ISG) COL/DC-ISG-011 (Agencywide Documents Access and Management System (ADAMS) Accession No. ML090550772). This ISG is to clarify the NRC staff position on finalizing licensing basis information at a point during the licensing review, a so-called freeze-point, and the control of licensing basis information during and following the initial review of applications for design certifications (DCs) or combined licenses (COLs). The NRC staff issues COL/DC-ISGs to facilitate timely implementation of current staff guidance and to facilitate activities associated with review of applications for DCs and COLs by the Office of New Reactors. The NRC staff intends to incorporate the final approved COL/DC-ISG-011 into the next revision of Regulatory Guide 1.206, “Combined License Applications for Nuclear Power Plants.”

DATES: Comments must be filed no later than 30 days from the date of publication of this notice in the Federal Register. Comments received after this date will be considered, if it is practical to do so, but the Commission is able to ensure consideration only for comments received on or before this date.

ADDRESSES: Written comments may be submitted to Mr. Michael T. Lesar, Chief, Rulemaking and Directives Branch, MS TWB-05-B01M, Division of Administrative Services, Office of Administration, U.S. Nuclear Regulatory Commission, Washington, DC, 20555-0001. Members of the public are invited and encouraged to submit comments electronically to http://www.regulations.gov. Search on Docket ID: NRC-2009-0226 and follow the instructions for submitting comments.

The NRC maintains an ADAMS, which provides text and image files of NRC's public documents. These documents may be accessed through the NRC's Public Electronic Reading Room on the Internet at http://www.nrc.gov/reading-rm/adams.html. Persons who do not have access to ADAMS or who encounter problems in accessing the documents located in ADAMS should contact the NRC Public Document Room reference staff at 1-800-397-4209, 301-415-4737, or by e-mail at PDR.Resource@nrc.gov.

FOR FURTHER INFORMATION CONTACT: Mr. William D. Reckley, Chief, Project Management and Technical Review Branch, Advanced Reactor Program, Office of the New Reactors, U.S. Nuclear Regulatory Commission, Washington, DC, 20555-0001; telephone 301-415-7490 or e-mail at william.reckley@nrc.gov.

SUPPLEMENTARY INFORMATION: The agency posts its issued staff guidance in the agency external Web page (http://www.nrc.gov/reading-rm/doc-collections/isg/ ).

The NRC staff is issuing this notice to solicit public comments on the proposed COL/DC-ISG-011. After the NRC staff considers any public comments, it will make a determination regarding the proposed COL/DC-ISG-011.

Dated at Rockville, Maryland, this 28th day of May, 2009.
For the Nuclear Regulatory Commission.
William F. Burton,
Branch Chief, Rulemaking and Guidance Development Branch, Division of New Reactor Licensing, Office of New Reactors.

[FR Doc. E9-13025 Filed 6-3-09; 8:45 am]

BILLING CODE 7590-01-P